DEPARTMENT OF TRANSPORTATION

National Highway Traffic Safety Administration

Announcing the Fifth Quarterly Meeting of the Crash Injury Research and Engineering Network

AGENCY: National Highway Traffic Safety Administration (NHTSA), DOT.

ACTION: Meeting announcement.

SUMMARY: This notice announces the Fifth Quarterly Meeting of members of the Crash Injury Research and Engineering Network. CIREN is a collaborative effort to conduct research on crashes and injuries at nine Level 1 Trauma Centers which are linked by a computer network. Researchers can review data and share expertise, which could lead to a better understanding of crash injury mechanisms and the design of safer vehicles.

DATES: The meeting is scheduled from 9 a.m. to 5 p.m. on June 21, 2001.

ADDRESSES: The meeting will be held in Room 6200-04 of the U.S. Department of Transportation Building, which is located at 400 Seventh Street, SW., Washington, DC.

SUPPLEMENTARY INFORMATION: The CIREN System has been established and crash cases have been entered into the database by each Center. CIREN cases may be viewed from the NHTSA/CIREN web site at: http://www-nrd.nhtsa.dot.gov/include/bio_and_trauma/ciren-final.htm. NHTSA has held three Annual Conferences where CIREN research results were presented. Further information about the three previous CIREN conferences is also available through the NHTSA website. NHTSA held the first quarterly meeting on May 5, 2000, with a topic of lower extremity injuries in motor vehicle crashes, the second quarterly meeting on July 21, 2000, with a topic of side impact crashes, the third quarterly meeting on November 30, 2000, with a topic of thoracic injuries in crashes and the fourth quarterly meeting on March 16, 2001, with a topic of offset frontal collisions. Information from the May 5, July 21, and November 30, 2000, meetings and the March 16, 2001 meeting are also available through the NHTSA website.

NHTSA plans to continue holding quarterly meetings on a regular basis to disseminate CIREN information to interested parties. This is the fifth such meeting. The topic for this meeting is CIREN Outreach Efforts. Subsequent meetings have tentatively been scheduled for September and December 2001. These quarterly meetings will be in lieu of an annual CIREN conference.

FOR FURTHER INFORMATION CONTACT: Mrs. Donna Stemski, Office of Human-Centered Research, 400 Seventh Street, SW., Room 6206, Washington, DC 20590, telephone: (202) 366-5662.

Issued on: May 14, 2001.
Raymond P. Owings,
Associate Administrator for Research and Development, National Highway Traffic Safety Administration.

[FR Doc. 01-12617 Filed 5-18-01; 8:45 am]

BILLING CODE 4910-59-U